DEPARTMENT OF ENERGY

Federal Energy Regulatory Commission

[Docket No. EC00-116-000, et al.]

PECO Energy Company, et al.; Electric Rate and Corporate Regulation Filings

August 2, 2000.

Take notice that the following filings have been made with the Commission:

1. PECO Energy Company; Commonwealth Edison Company

[Docket No. EC00-116-000]

Take notice that on July 24, 2000, PECO Energy and Commonwealth Edison Company filed an application for authorization under Section 203 of the Federal Power Act to implement a revised holding company structure.

Comment date: August 23, 2000, in accordance with Standard Paragraph E at the end of this notice.

2. Celerity Energy of New Mexico, LLC

[Docket No. EG00-238-000]

Take notice that on July 28, 2000, Celerity Energy of New Mexico, LLC, having its principal place of business at 500 Fourth Street, NW, Suite 1000, Albuquerque, New Mexico 87102, filed with the Federal Energy Regulatory Commission (Commission) an application for determination of exempt wholesale generator status pursuant to Part 365 of the Commission's regulations.

The Applicant, a New Mexico limited liability company, seeks exempt wholesale generator status for its Networked Distributed Resource (NDR) facilities. NDR facilities aggregate commercial and industrial standby generators to provide electric energy for sale at wholesale.

Comment date: August 23, 2000, in accordance with Standard Paragraph E at the end of this notice. The Commission will limit its consideration of comments to those that concern the adequacy or accuracy of the application.

3. AmerGen Energy Company, L.L.C.

[Docket No. EG00-239-000]

Take notice that on August 1, 2000, AmerGen Energy Company, L.L.C., submitted an application for Exempt Wholesale Generator status pursuant to Section 32 of the Public Utility Holding Company Act of 1935.

Comment date: August 23, 2000, in accordance with Standard Paragraph E at the end of this notice. The Commission will limit its consideration of comments to those that concern the adequacy or accuracy of the application.

4. Niagara Mohawk Power Corp.

[Docket No. OA96-194-006]

Take notice that on July 27, 2000 Niagara Mohawk Power Corporation (Niagara Mohawk) tendered for filing its compliance refund report pursuant to the Commission's order issued June 15, 2000.

Copies of the tendered filing have been served by Niagara Mohawk upon the other parties to the above-captioned proceeding.

Comment date: August 28, 2000, in accordance with Standard Paragraph E at the end of this notice.

5. New England Power Pool

[Docket Nos. OA97-237-000, OA97-608-000, ER97-1079-000, ER97-4421-000, ER97-3574-000 and ER98-499-000]

Take notice that on July 31, 2000, an informational filing was made by the New England Power Pool (NEPOOL) Participants Committee relating to rate surcharges determined in accordance with formula rates of the NEPOOL Open Access Transmission Tariff. These materials describe the transmission charges that are in effect for the twelve month period commencing June 1, 2000.

The NEPOOL Participants Committee states that copies of these materials were sent to the New England state governors and regulatory commissions, and the NEPOOL Participants.

Comment date: August 30, 2000, in accordance with Standard Paragraph E at the end of this notice.

6. British Columbia Power Exchange Corporation

[Docket No. ER97-4024-012]

Take notice that on July 28, 2000, British Columbia Power Exchange Corporation tendered for filing an updated generation market power study in support of sales of electric energy at market based prices, pursuant to the Commission's order in British Columbia Power Exchange Corporation, 80 FERC ¶ 61,343 (1997).

Comment date: August 18, 2000, in accordance with Standard Paragraph E at the end of this notice.

7. American Electric Power Service Corporation

[Docket No. ER00-2413-002]

Take notice that on July 28, 2000, American Electric Power Service Corporation, on behalf of the operating companies of the American Electric Power System (collectively AEP), tendered for filing proposed amendments to its Open Access Transmission Tariff in compliance with the Commission's July 28, 2000, Order in the above-referenced docket.

AEP requests an effective date of July 1, 2000 for the proposed amendments.

Comment date: August 18, 2000, in accordance with Standard Paragraph E at the end of this notice.

8. Commonwealth Edison Company

[Docket No. ER00-2814-001]

Take notice that on July 28, 2000, Commonwealth Edison Company (ComEd), tendered for filing an Dynamic Scheduling Agreement between ComEd and ComEd in its Wholesale Merchant Function (WEG) so as to amend the Dynamic Scheduling Agreement that ComEd filed with the Commission on June 13, 2000 in Docket No. ER00-2814-000.

ComEd requests the same effective date of January 1, 2000 for the Agreement that ComEd requested and was granted in the proceeding where it submitted the unexecuted agreement to the Commission in Docket No. ER00-940-000.

Copies of this filing were served on WEG.

Comment date: August 18, 2000, in accordance with Standard Paragraph E at the end of this notice.

9. Wisconsin Public Service Corporation

[Docket No. ER00-3284-000]

Take notice that on July 28, 2000, Wisconsin Public Service Corporation (WPSC), tendered for filing an executed service agreement with Public Service Company of Colorado under its Market-Based Rate Tariff, FERC Electric Tariff Volume No. 10.

Comment date: August 18, 2000, in accordance with Standard Paragraph E at the end of this notice.

10. Southern Indiana Gas and Electric Company

[Docket No. ER00-3285-000]

Take notice that on July 28, 2000, Southern Indiana Gas and Electric Company (SIGECO), tendered for filing a Notice of Cancellation of service to one customer, Boonville, Indiana, pursuant to 18 CFR 35.15, under its Rate Schedule, RS and Tariff No. 39, with SIGECO service to all other customers under that Rate Schedule and tariff to continue.

SIGECO requests that its Notice of Cancellation of service to Boonville, Indiana, take effect on October 1, 2000.

In accordance with 18 CFR 35.15 SIGECO has mailed a copy of this filing to Boonville, Indiana.

Comment date: August 18, 2000, in accordance with Standard Paragraph E at the end of this notice.

11. Commonwealth Edison Company

[Docket No. ER00-3286-000]

Take notice that on July 28, 2000, Commonwealth Edison Company (ComEd), tendered for filing Amendment No. 1 (Amendment), to the Network Service Agreement dated December 27, 1999 (NSA) between ComEd and Peoples Energy Services Company (PESC). The Amendment extends the termination date of the NSA previously filed on January 17, 2000 in Docket No. ER00-1125-000 between ComEd and PESC. The NSA governs ComEd's provision of network service to serve retail load under the terms of ComEd's Open Access Transmission Tariff (OATT).

ComEd requests an effective date of June 30, 2000 for Amendment No. 1 to the NSA, and therefore seeks waiver of the Commission's notice requirements.

Copies of this filing were served on PESC.

Comment date: August 18, 2000, in accordance with Standard Paragraph E at the end of this notice.

12. Commonwealth Edison Company

[Docket No. ER00-3287-000]

Take notice that on July 28, 2000, Commonwealth Edison Company (ComEd), tendered for filing a revised Firm Point-to-Point Transmission Service Agreement with Alliant Energy Corporate Services, Inc. (Alliant) under the terms of ComEd's Open Access Transmission Tariff (OATT).

Copies of this filing were served on Alliant.

Comment date: August 18, 2000, in accordance with Standard Paragraph E at the end of this notice.

13. Cinergy Services, Inc.

[Docket No. ER00-3288-000]

Take notice that on July 28, 2000, Cinergy Services, Inc. (Cinergy), tendered for filing a Non-Firm Point-To-Point Service Agreement under Cinergy's Open Access Transmission Service Tariff (OATT) entered into between Cinergy and The Legacy Energy Group, LLC (Legacy).

Cinergy and Legacy are requesting an effective date of June 29, 2000.

Comment date: August 18, 2000, in accordance with Standard Paragraph E at the end of this notice.

14. Cinergy Services, Inc.

[Docket No. ER00-3289-000]

Take notice that on July 28, 2000, Cinergy Services, Inc. (Cinergy), tendered for filing a Firm Point-to-Point Service Agreement under Cinergy's Open Access Transmission Service Tariff (OATT) entered into between Cinergy and The Legacy Energy Group, LLC (Legacy).

Cinergy and Legacy are requesting an effective date of June 29, 2000.

Comment date: August 18, 2000, in accordance with Standard Paragraph E at the end of this notice.

15. Wisconsin Electric Power Company

[Docket No. ER00-3290-000]

Take notice that on July 28, 2000, Wisconsin Electric Power Company (Wisconsin Electric), tendered for filing an electric service agreement under its Market Rate Sales Tariff (FERC Electric Tariff, Original Volume No. 8) with Consumers Energy Company.

Wisconsin Electric respectfully requests an effective date of July 28, 2000 to allow for economic transactions.

Copies of the filing have been served on Consumers Energy Company, the Michigan Public Service Commission, and the Public Service Commission of Wisconsin.

Comment date: August 18, 2000, in accordance with Standard Paragraph E at the end of this notice.

16. Calcasieu Power, LLC

[Docket No. ER00-3292-000]

Take notice that on July 28, 2000, Calcasieu Power, LLC (Calcasieu), tendered for filing a proposed tariff for Emergency Redispatch Service. The tariff sets forth the compensation for the dispatch of the Calcasieu generating facility by Entergy Services, Inc., during emergencies.

Calcasieu requests that the notice requirements set forth in Rule 35.3(a) be waived to the extent required to allow the tariff to become effective as of July 29, 2000.

Comment date: August 18, 2000, in accordance with Standard Paragraph E at the end of this notice.

17. Pacific Gas and Electric Company

[Docket No. ER00-3294-000]

Take notice that on July 28, 2000, Pacific Gas and Electric Company (PG&E), tendered for filing a Generator Special Facilities Agreement (GSFA), a Generator Interconnection Agreement, and a Supplemental Letter Agreement between PG&E and Geysers Power Company, LLC (Geysers Power).

The GSFA permits PG&E to recover the ongoing costs associated with owning, operating and maintaining the Special Facilities. As detailed in the Special Facilities Agreement, PG&E proposes to charge Geysers Power a monthly Cost of Ownership Charge equal to the rate for Transmission-level, Utility-financed facilities in PG&E's currently effective Electric Rule 2, as filed with the Public Utilities Commission of the State of California (CPUC). PG&E's currently effective rate of 1.14% for Transmission-level, Utility-financed Special Facilities is contained in the CPUC's Advice Letter 1960-G/1587-E, effective August 5, 1996, a copy of which is included as Attachment 4 of this filing.

Copies of this filing have been served upon Geysers Power, the Sacramento Municipal Utility District and the CPUC.

Comment date: August 18, 2000, in accordance with Standard Paragraph E at the end of this notice.

18. International Transmission Company

[Docket No. ER00-3295-000]

Take notice that on July 28, 2000, International Transmission Company tendered for filing a proposal for innovative rate treatment pursuant to Section 205 of Federal Power Act and Section 35.34 of the Federal Energy Regulatory Commission's Regulations.

International Transmission Company also proposes certain modifications to its open access transmission tariff and its joint open access transmission tariff with Consumers Energy Company.

In accordance with 18 CFR 35.2(d), International Transmission Company has served a copy of this filing on the Michigan Public Service Commission and all affected purchasers under these tariffs. International Transmission Company has also served a copy of this filing on Consumers Energy Company.

Comment date: August 18, 2000, in accordance with Standard Paragraph E at the end of this notice.

19. Baltimore Gas and Electric Company

[Docket No. ER00-3296-000]

Take notice that on July 28, 2000, Baltimore Gas and Electric Company (BGE) tendered for filing in compliance with Section 205 of the Federal Power Act and its market-based rate authorization a Power Purchase and Sale Agreement between BGE and Constellation Power Source, Inc.

Comment date: August 18, 2000, in accordance with Standard Paragraph E at the end of this notice.

20. Calvert Cliffs Nuclear Power Plant, Inc.

[Docket No. ER00-3297-000]

Take notice that on July 28, 2000, Calvert Cliffs Nuclear Power Plant, Inc. (CCNPP), tendered for filing in compliance with section 205 of the Federal Power Act and its market-based rate authorization a Power Sales Agreement between CCNPP and Constellation Power Source, Inc.

Comment date: August 18, 2000, in accordance with Standard Paragraph E at the end of this notice.

21. Constellation Power Source Generation, Inc.

[Docket No. ER00-3298-000]

Take notice that on July 28, 2000, Constellation Power Source Generation, Inc. (CPSGI), tendered for filing in compliance with Section 205 of the Federal Power Act and its market-based rate authorization a Power Sales Agreement between CPSGI and Constellation Power Source, Inc.

Comment date: August 18, 2000, in accordance with Standard Paragraph E at the end of this notice.

22. PJM Interconnection, L.L.C.

[Docket No. ER00-3299-000]

Take notice that on July 28, 2000, PJM Interconnection, L.L.C. (PJM), tendered for filing an amended Service Agreement for Network Integration Transmission Service for PP&L Inc. (now PPL Electric Utilities Corporation) (PPL) and a Service Agreement for Network Integration Transmission Service with PPL EnergyPlus, L.L.C. (PPL EnergyPlus). These agreements are necessary because as of July 1, 2000, PPL transferred the loads of the Easton Utilities Commission (Easton) and the Boroughs of Lewisberry and Goldsboro to PPL EnergyPlus.

Copies of this filing were served upon PPL, PPL EnergyPlus, Easton, the Boroughs of Lewisberry and Goldsboro, and the state utility commissions within the PJM control area.

PJM requests a waiver of the Commission's 60-day notice requirement to permit an effective date of July 1, 2000, for the service agreements.

Comment date: August 18, 2000, in accordance with Standard Paragraph E at the end of this notice.

23. Northeast Power Coordinating Council

[Docket No. ER00-3300-000]

Take notice that on July 28, 2000, the Northeast Power Coordinating Council (NPCC), on behalf of the member Systems of the New York ISO and joined by Allegheny Energy, Inc., Consumers Energy Co., The Detroit Edison Company, American Electric Power Company, Inc., FirstEnergy Corporation, and with the support of the Independent Electricity Market Operator (IMO) tendered for filing an Agreement entailing the description and procedures for a revised Lake Erie Emergency Re-dispatch Procedure (LEER).

NPCC states that copies of the filing were mailed to the commissions in the states of Delaware, Maryland, Michigan, New Jersey, New York, Ohio, Pennsylvania, Virginia, and West Virginia.

The LEER Participants seek a waiver in order to proceed with control room adoption of the revised procedures effective July 31, 2000, and that the LEER Agreement described in this filing be made effective retroactively to that date upon Commission approval.

Comment date: August 18, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-20139 Filed 8-8-00; 8:45 am]

BILLING CODE 6717-01-P